DEPARTMENT OF HOMELAND SECURITY

U.S. Customs and Border Protection

Delayed Effective Date for Modifications of the National Customs Automation Program Tests Regarding Reconciliation, Post-Summary Corrections, and Periodic Monthly Statements

AGENCY: U.S. Customs and Border Protection, Department of Homeland Security.

ACTION: Delay of effective date.

SUMMARY: This notice announces that the effective date for the modifications to the National Customs Automation Program (NCAP) tests regarding Reconciliation, Post-Summary Corrections (PSC), and Periodic Monthly Statements (PMS) is delayed until further notice. U.S. Customs and Border Protection (CBP) announced these modifications in notices previously published in the Federal Register.

DATES: The effective date for the modifications to the reconciliation, PSC, and PMS NCAP tests is delayed until further notice. CBP will publish a notice in the Federal Register announcing a new effective date for changes to these NCAP tests.

ADDRESSES: Comments concerning the reconciliation test program may be submitted at any time during the test via email, with a subject line identifier reading, “Comment on Reconciliation test”, to OFO-RECONFOLDER@cbp.dhs.gov.

Comments concerning the PSC and PMS test programs may be submitted via email to Monica Crockett at ESARinfoinbox@dhs.gov with a subject line identifier reading, “Post-Summary Corrections and Periodic Monthly Statements.”

FOR FURTHER INFORMATION CONTACT:

Reconciliation: Acenitha Kennedy, Entry Summary and Revenue Branch, Trade Policy and Programs, Office of Trade at (202) 863-6064 or ACENITHA.KENNEDY@CBP.DHS.GOV.

PSC and PMS: For policy-related questions, contact Randy Mitchell, Director, Commercial Operations, Trade Policy and Programs, Office of Trade, at Randy.Mitchell@cbp.dhs.gov. For technical questions related to ABI transmissions, contact your assigned client representative. Interested parties without an assigned client representative should direct their questions to the Client Representative Branch at (703) 650-3500.

SUPPLEMENTARY INFORMATION:

Background

I. Reconciliation Test

On December 12, 2016, U.S. Customs and Border Protection (CBP) published a notice entitled “Modification of the National Customs Automation Program Test Regarding Reconciliation and Transition of the Test from the Automated Commercial System to the Automated Commercial Environment” in the Federal Register (81 FR 89486), with an effective date of January 14, 2017. This notice announced modifications to the National Customs Automation Program (NCAP) test regarding reconciliation, and the transition of the test from the Automated Commercial System (ACS) to the Automated Commercial Environment (ACE). The effective date for these changes was subsequently delayed. On June 8, 2017, CBP published a notice in the Federal Register (82 FR 26699) announcing that the effective date for the test modifications would be July 8, 2017.

This notice announces that the effective date for the modifications to the reconciliation test and for mandatory filing of reconciliation entries in ACE has been delayed until further notice.

II. Post-Summary Correction and Periodic Monthly Statement Tests

On December 12, 2016, CBP published a notice in the Federal Register (81 FR 89482) announcing plans to modify and clarify, effective January 14, 2017, the NCAP test regarding Post-Summary Correction (PSC) claims, and the NCAP test regarding Periodic Monthly Statements (PMS). Subsequently, on January 9, 2017, CBP published a second notice in the Federal Register (82 FR 2385), superseding the original notice. This notice announced CBP's plans to modify the PMS test and to modify and clarify the NCAP test regarding PSC claims to entry summaries that are filed in ACE. The effective date for these changes was subsequently delayed. On June 8, 2017, CBP published a notice in the Federal Register (82 FR 26699), announcing that the effective date for the modifications to the PSC and PMS tests would be July 8, 2017.

This notice announces that the effective date for the modifications to the PSC and PMS tests has been delayed until further notice.

Dated: June 26, 2017.
Brenda B. Smith,
Executive Assistant Commissioner, Office of Trade.

[FR Doc. 2017-13825 Filed 6-29-17; 8:45 am]

BILLING CODE 9111-14-P